DEPARTMENT OF TRANSPORTATION

Federal Aviation Administration

Notice of Availability of a Draft Final Environmental Assessment for the Proposed Airport Development at the Sawyer County Airport in Hayward, WI

AGENCY: Federal Aviation Administration (FAA), DOT.

ACTION: Notice of Availability of a Draft Final Environmental Assessment for the Proposed Airport Development at the Sawyer County Airport in Hayward, Wisconsin.

SUMMARY: The Federal Aviation Administration (FAA), in conjunction with the Wisconsin Department of Transportation Bureau of Aviation (WisDOT BOA), have prepared a joint Federal and State Draft Final Environmental Assessment (DFEA) for the Proposed Airport Development at the Sawyer County Airport in Hayward, Wisconsin. The FAA and WisDOT BOA are making available the DFEA for the following proposed airport improvement projects: installation of an instrument landing system (ILS) for Runway 20 with medium approach lighting system with runway alignment indicator lights; construction of a parallel taxiway/ramp expansion for Runway 2/20; land acquisition; removal of airspace obstructions, including removal/relocation of a town road; and relocation of precision approach path indicator, localizer, and distance measuring equipment at Runway 20.

The proposed airport improvement projects include both state block program actions and FAA actions. Actions for the proposed airport improvement project would be divided between FAA and WisDOT BOA. Agency approvals are required to proceed. Proposed FAA actions include: provide Federal environmental approval to establish eligibility to participate in Federal funding for eligible projects not included in the state block grant program which are assessed in the EA; issue an environmental finding for FAA actions; provide ILS equipment, assist in the design of the proposed ILS; perform the flight check, certification, and operation of the proposed ILS; and provide long-term maintenance of the proposed ILS.

Proposed WisDOT BOA actions for the airport improvement projects include: issue an environmental finding for WisDOT BOA's actions; determine eligibility of Airport Improvement Program funds for the proposed ILS project; approve the necessary funding for the proposed ILS project; assist in design of the proposed ILS; purchase land for the proposed ILS; install the proposed ILS; construct necessary airport facilities to support proposed ILS and airport operations; develop, implement, and monitor required mitigation for unavoidable impacts due to the proposed ILS project.

The DFEA has been prepared in accordance with the National Environmental Policy Act (NEPA) of 1969, as amended, FAA Order 1050.1E, “Policies and Procedures for Considering Environmental Impacts,” and FAA Order 5050.4B, “NEPA Implementing Instructions for Airport Actions.” The proposed action is consistent with the National Airspace System Plan prepared by the U.S. Department of Transportation, FAA.

The DFEA will be available for public review for 30 days at the following locations:

Sherman and Ruth Weise Community Library, 10788 Hwy 27/77, Hayward, WI;

Sawyer County Airport Manager's Office, 10930 N. Airport Road, Hayward, WI;

Sawyer County Clerk's Office, 10610 Main Street, Hayward, WI;

WisDOT, 4802 Sheboygan Avenue, Room 701, Madison, WI.

ADDRESSES: Written comments are encouraged from persons or interested parties. Written comments concerning the DFEA will be accepted until 5 p.m. CST, Monday, March 16, 2009. Written comments may be sent to: Ms. Virginia Marcks, Manager, Infrastructure Engineering Center, Federal Aviation Administration, 2300 East Devon Avenue, Des Plaines, IL 60018.

FOR FURTHER INFORMATION CONTACT: Ms. Virginia Marcks, Manager, Infrastructure Engineering Center, Federal Aviation Administration, 2300 East Devon Avenue, Des Plaines, Illinois 60018. Telephone number: 847-294-7494. E-mail: virginia.marcks@faa.gov.

SUPPLEMENTARY INFORMATION:

Background

The Sawyer County Airport currently has non-precision instrument approach capabilities. During inclement weather with low visibility and low ceilings, aircraft pilots may not be able to land because they are unable to see the landing runway as they approach to land. Instrument flight rules (IFR) regulate aircraft operations during inclement weather under low visibility and cloud ceilings. Under IFR conditions, aircraft must use an instrument approach to initiate the landing process. The proposed ILS would provide instrumentation that would allow landings under IFR conditions.

Medical transport pilots from several companies use the Sawyer County Airport on a regular basis. Medical flights are not scheduled events; they occur whenever a medical emergency arises, good weather or bad. When medical transports cannot land, it is more than an inconvenience; it's typically a life-threatening situation. An ILS at the Sawyer County Airport would serve the purpose of increasing the probability that those medical transports could land whenever they were needed.

Issued in Des Plaines, Illinois, February 6, 2009.
Joe Dillon,
Acting Manager, Infrastructure Engineering Center, Chicago, AJW-C14D, Central Service Area.

[FR Doc. E9-3005 Filed 2-10-09; 8:45 am]

BILLING CODE 4910-13-P